DEPARTMENT OF JUSTICE

Antitrust Division

Notice Pursuant to the National Cooperative Research and Production Act of 1993—Telematics Suppliers Consortium, Inc. (“Telematics”)

Notice is hereby given that, on August 19, 1999, pursuant to Section 6(a) of the National Cooperative Research and Production Act of 1993, 15 U.S.C. 4301 et seq. (“the Act”), Telematics Suppliers Consortium, Inc. (“Telematics”) has filed written notifications simultaneously with the Attorney General and the Federal Trade Commission disclosing changes in its membership status. The notifications were filed for the purpose of extending the Act's provisions limiting the recovery of antitrust plaintiffs to actual damages under specified circumstances. Specifically, Auvo Inc., Schaumburg, IL; Clarion Co., Ltd., Saitama, JAPAN; ComCARE Alliance, Washington, DC; InfoMove.com, Inc., Redmond, WA; Intelligent Transportation Society of America, Washington, DC; Microsoft, Inc., Redmond, WA; Navigational Technologies, Rosemont, IL; Qualcomm Inc., San Diego, CA; Sony Group, Menlo Park, CA; The Automobile Association, Basingstoke, UNITED KINGDOM have been added as parties to this venture. In addition, the initial notification made by the Consortium is amended to include Alpine Electronics Inc., Tokyo, JAPAN (parent company of Alpine Electronics of America, Inc., Torrence, CA); Tyco International Ltd., Hamilton, BERMUDA (parent company of AMP Inc., Harrisburg, PA); and Lear Corporation, Southfield, MI (parent company of United Technologies Corporation, Hartford, CT) as members.

No other changes have been made in either the membership or planned activity of the group research project. Membership in this group research project remains open, and Telematics Suppliers Consortium, Inc. (“Telematics”) intends to file additional written notification disclosing all changes in membership.

On March 12, 1999, Telematics Suppliers Consortium, Inc. (“Telematics”) filed its original notification pursuant to Section 6(a) of the Act. The last notification was filed with the Department on May 26, 1999. A notice was published in the Federal Register pursuant to Section 6(b) of the Act on December 14, 1999 (64 FR 69801).

Constance K. Robinson,
Director of Operations, Antitrust Division.

[FR Doc. 00-3125 Filed 2-9-00; 8:45 am]

BILLING CODE 4410-11-M